DEPARTMENT OF COMMERCE

International Trade Administration

[A-533-843]

Certain Lined Paper Products From India: Final Results of Antidumping Duty Administrative Review; 2016-2017

AGENCY: Enforcement and Compliance, International Trade Administration, Department of Commerce.

SUMMARY: The Department of Commerce (Commerce) determines that Kokuyo Riddhi Paper Products Pvt. Ltd. (Kokuyo) and Navneet Education Ltd. (Navneet) did not make sales of certain lined paper products (lined paper) from India below normal value. The period of review (POR) is September 1, 2016, through August 31, 2017.

DATES: Effective May 21, 2019.

FOR FURTHER INFORMATION CONTACT: Cindy Robinson (for Navneet) and Joy Zhang (for Kokuyo), AD/CVD Operations, Office III, Enforcement and Compliance, International Trade Administration, U.S. Department of Commerce, 1401 Constitution Avenue NW, Washington, DC 20230; telephone (202) 482-3797 and (202) 482-1168, respectively.

SUPPLEMENTARY INFORMATION:

Background

On October 10, 2018, Commerce published the Preliminary Results.¹ For a history of events that occurred since the Preliminary Results, see the Issues and Decision Memorandum.² On December 21, 2018, we extended the deadline for these final results until April 5, 2019.³ Commerce exercised its discretion to toll all deadlines affected by the partial federal government closure from December 22, 2018, through the resumption of operations on January 29, 2019.⁴ Accordingly, the revised deadline for the final results of this administrative review is now May 15, 2019.

¹ See Certain Lined Paper Products from India: Preliminary Results of Antidumping Duty Administrative Review and Preliminary Determination of No Shipments; 2016-2017, 83 FR 50886 (October 10, 2018) (Preliminary Results) and accompanying Preliminary Decision Memorandum.

² See Memorandum, “Issues and Decision Memorandum for the Final Results of Administrative Review; 2016-2017,” dated concurrently with, and hereby adopted by, this notice (Issues and Decision Memorandum).

³ See Memorandum, “Certain Lined Paper Products from India: Extension of Time Limit for Final Results of Antidumping Duty Administrative Review: 2016-2017,” dated December 21, 2018.

⁴ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding affected by the partial federal government closure have been extended by 40 days.

Scope of the Order

The merchandise covered by the order is lined paper. The lined paper subject to the order is currently classifiable under subheadings 4811.90.9035, 4811.90.9080, 4820.30.0040, 4810.22.5044, 4811.90.9050, 4811.90.9090, 4820.10.2010, 4820.10.2020, 4820.10.2030, 4820.10.2040, 4820.10.2050, 4820.10.2060, and 4820.10.4000 of the Harmonized Tariff Schedule of the United States.⁵

⁵ For a full description of the scope of the order, see the Issues and Decision Memorandum.

Analysis of Comments Received

All issues raised in the case and rebuttal briefs by parties are addressed in the Issues and Decision Memorandum. The Issues and Decision Memorandum is a public document and is on file electronically via Enforcement and Compliance's Antidumping and Countervailing Duty Centralized Electronic Service System (ACCESS). ACCESS is available to registered users at https://access.trade.gov, and is available to all parties in the Central Records Unit, Room B8024 of the main Department of Commerce building. In addition, a complete version of the Issues and Decision Memorandum can be accessed directly on the internet at http://enforcement.trade.gov/frn/. The signed Issues and Decision Memorandum and the electronic versions of the Issues and Decision Memorandum are identical in content.

A list of the issues that parties raised, and to which we responded in the Issues and Decision Memorandum, is attached to this notice in the Appendix.

Changes Since the Preliminary Results

Based on our analysis of the comments received from parties, we made certain revisions to the margin calculations of Navneet and Kokuyo.⁶

⁶ See Issues and Decision Memorandum; see also Memorandum, “Certain Lined Paper Products from India (2016-2017): Sales and Cost of Production Calculation Memorandum for the Final Results of Navneet Education;” and “Analysis Memorandum for the Final Results of the Antidumping Duty Administrative Review of Certain Lined Paper Products from India: Kokuyo Riddhi Paper Products Pvt. Ltd.'” The analysis memoranda are dated concurrently with this notice.

Final Results of the Review

As a result of this review, we determine the following weighted-average dumping margins for the period September 1, 2016, through August 31, 2017:

Manufacturer/exporter | Weighted- average dumping margin (percent)
Kokuyo Riddhi Paper Products Pvt. Ltd | 0.00
Navneet Education Ltd | 0.00
Magic International Pvt. Ltd | 0.00
Pioneer Stationery Pvt Ltd | 0.00
SGM Paper Products | 0.00

For the companies that were not selected for individual review, we assigned a rate based on the rates for the respondents that were selected for individual review, excluding rates that are zero, de minimis, or based entirely on facts available.⁷ In accordance with the U.S. Court of Appeals for the Federal Circuit's decision in Albemarle Corp. v. United States, we are applying to the three companies not selected for individual review the zero percent rates calculated for Navneet and Kokuyo.⁸ These are the only rates determined in this review for individual respondents and, thus, should be applied to the three firms not selected for individual review under section 735(c)(5)(B) of the Act.

⁷ See section 735(c)(5)(A) of the Tariff Act of 1930, as amended (the Act).

⁸ See Albemarle Corp. v. United States, 821 F.3d 1345 (Fed. Cir. 2016) (Albemarle Corp. v. United States).

Disclosure and Public Comment

We intend to disclose the calculations performed to parties in this proceeding within five days after publication of these final results in the Federal Register, in accordance with section 751(a) of the Act and 19 CFR 351.224(b).

Assessment Rates

Upon completion of this administrative review, Commerce shall determine and U.S. Customs and Border Protection (CBP) shall assess antidumping duties on all appropriate entries. Because the weighted-average dumping margins of Kokuyo, Navneet, and the three firms not selected for individual examination have been determined to be zero within the meaning of 19 CFR 351.106(c), we will instruct CBP to liquidate the appropriate entries without regard to antidumping duties. In accordance with Commerce's practice, for entries of subject merchandise during the POR for which Navneet and Kokuyo did not know that the merchandise was destined for the United States, we will instruct CBP to liquidate such entries at the all-others rate if there is no company-specific rate for the intermediate company(ies) involved in the transaction.⁹ Commerce intends to issue assessment instructions directly to CBP 15 days after publication of these final results of review.

⁹ See Antidumping and Countervailing Duty Proceedings: Assessment of Antidumping Duties, 68 FR 23954 (May 6, 2003).

Cash Deposit Requirements

The following cash deposit requirements will be effective for all shipments of lined paper from India entered, or withdrawn from warehouse, for consumption on or after the date of publication of the final results of this administrative review, as provided by section 751(a)(2)(C) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 3.91 percent, the all-others rate established in the investigation, as modified by the section 129 determination.¹⁰ These cash deposit requirements, when imposed, shall remain in effect until further notice.

¹⁰ See Implementation of the Findings of the WTO Panel in US—Zeroing (EC): Notice of Determinations Under Section 129 of the Uruguay Round Agreements Act and Revocations and Partial Revocations of Certain Antidumping Duty Orders, 72 FR 25261 (May 4, 2007).

Notification to Importers

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of double antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing this notice in accordance with sections 751(a)(1) and 777(i) of the Act and 19 CFR 351.221.

Dated: May 15, 2019.
Jeffrey I. Kessler,
Assistant Secretary for Enforcement and Compliance.

Appendix

List of Topics Discussed in the Final Decision Memorandum

I. Summary

II. List of Comments

III. Background

IV. Scope of the Order

V. Changes Made Since the Preliminary Results

VI. Analysis of Comments

Comments Concerning Navneet

Comment 1: Whether Commerce Should Apply Total or Partial Adverse Facts Available to Navneet in the Final Results

Comment 2: Whether Commerce Should Make a Central Excise Tax (CET) Adjustment for Navneet's Home Market Price and/or Navneet's Total Cost of Manufacture (TCOM)

Comments Concerning Kokuyo

Comment 3: Whether Commerce Should Grant a Full Scrap Offset to Kokuyo

Comment 4: Whether Commerce Used the Correct Version of Kokuyo's Comparison Market Database

VII. Recommendation

[FR Doc. 2019-10546 Filed 5-20-19; 8:45 am]

BILLING CODE 3510-DS-P